DEPARTMENT OF HOMELAND SECURITY

Immigration and Customs Enforcement Bureau

Agency Information Collection Activities: Extension of a Currently Approved Information Collection; Comment Request

ACTION: 30-day notice of information collection under review: Request for Cancellation of Public Charge Bond, Form I-356; (OMB Control No. 1653-0005).

The Department of Homeland Security, U.S. Immigration and Customs Enforcement (USICE) has submitted the following information collection request to the Office of Management and Budget (OMB) for review and clearance in accordance with the Paperwork Reduction Act of 1995. The information collection was previously published in the Federal Register on February 28, 2006 at 71 FR 10045, allowing for a 60-day public comment period. The USICE did not receive any public comments on this information collection during that period.

The purpose of this notice is to allow an additional 30 days for public comments. Comments are encouraged and will be accepted until July 17, 2006. This process is conducted in accordance with 5 CFR 1320.10.

Written comments and/or suggestions regarding the item(s) contained in this notice, especially regarding the estimated public burden and associated response time, should be directed to the Department of Homeland Security (DHS), USCIS, Director, Regulatory Management Division, Clearance Office, 111 Massachusetts Avenue, Room 3008, Washington, DC 20529. Comments may also be submitted to DHS via facsimile to 202-272-8352 or via e-mail at rfs.regs@dhs.gov. When submitting comments by e-mail please make sure to add OMB Control No. 1653-0005. in the subject box. Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved information collection.

(2) Title of the Form/Collection: Request for Cancellation of Public Charge Bond.

(3) Agency form number, if any, and the applicable component of the Department of Homeland Security sponsoring the collection: Form I-356. U.S. Immigration and Customs Enforcement.

(4) Affected public who will be asked or required to respond, as well as a brief abstract: Primary: Individuals or Households. The form is used by the USICE to determine if the bond posted on behalf of an alien in the United States should be canceled.

(5) An estimate of the total number of respondents and the amount of time estimated for an average respondent to respond: 2,000 responses at 15 minutes (0.25 hours) per response.

(6) An estimate of the total public burden (in hours) associated with the collection: 500 annual burden hours.

If you have comments, suggestions, or need a copy of the information collection instrument, please contact Richard A. Sloan, Director, Regulatory Management Division, 111 Massachusetts Avenue, NW., Washington, DC 20529; 202-372-8377.

Dated: June 12, 2006.
Stephen Tarragon,
Deputy Director, Regulatory Management Division, U.S. Citizenship and Immigration Services.

[FR Doc. E6-9427 Filed 6-15-06; 8:45 am]

BILLING CODE 4410-10-P